DEPARTMENT OF TRANSPORTATION

Federal Aviation Administration

14 CFR Part 71

[Airspace Docket No. 01-ASO-9]

Establishment of Class E2 Airspace; Greenwood, MS

AGENCY: Federal Aviation Administration (FAA), DOT.

ACTION: Final rule; correction.

SUMMARY: This action corrects errors in the geographic position coordinates and the description of airspace lateral distance of a final rule that was published in the Federal Register on July 31, 2001, (66 FR 39435), Airspace Docket No. 01-ASO-9. The final rule established Class E2 airspace at Greenwood, MS.

EFFECTIVE DATE: October 25, 2001.

FOR FURTHER INFORMATION CONTACT: Walter R. Cochran, Manager, Airspace Branch, Air Traffic Division, Federal Aviation Administration, P.O. Box 20636, Atlanta, Georgia 30320; telephone (404) 305-5627.

SUPPLEMENTARY INFORMATION:

History

Federal Register Document 01-19044, Airspace Docket No. 01-ASO-9, published on July 31, 2001, (66 FR 39435), established Class E2 airspace at Greenwood, MS. The airspace description inadvertently contained an incorrect lateral distance and geographic position coordinates for the Greenwood-Leflore Airport. This action corrects those errors.

Correction to Final Rule

Accordingly, pursuant to the authority delegated to me, the airspace description for the Class E2 airspace area Greenwood, MS, incorporated by reference at Sec. 71-1 and published in the Federal Register on July 31, 2001, (66 FR 39435), is corrected as follows:

§ 71.71 [Corrected]

* * * * *

ASO MS E2 Greenwood, MS [Corrected]

On page 39435, column 3, line 2, of the Greenwood-Leflore Airport, MS, geographic position description, correct the geographic position coordinates by substituting “(lat. 33°29′40″N, long. 90°05′05″W)” for “(lat. 33°29′44″N, long. 90°05′03″W)”. On line 3, correct the lateral distance from the Greenwood-Leflore Airport, MS, by substituting “4.4-mile radius” for 4-mile radius”.

* * * * *

Issued in College Park, Georgia, on October 15, 2001.
Richard Biscomb,
Acting Manager, Air Traffic Division, Southern Region.

[FR Doc. 01-26923 Filed 10-24-01; 8:45 am]

BILLING CODE 4910-13-M